DEPARTMENT OF THE TREASURY

Internal Revenue Service

26 CFR Part 1

[REG-102988-11]

RIN 1545-BK05

Basis Reporting by Securities Brokers and Basis Determination for Debt Instruments and Options; Correction

AGENCY: Internal Revenue Service (IRS), Treasury.

ACTION: Correction to a notice of proposed rulemaking and notice of public hearing.

SUMMARY: This document contains a correction to a notice of proposed rulemaking and notice of public hearing (REG-102988-11) that was published in the Federal Register on Friday, November 25, 2011 (76 FR 72652) relating to reporting by brokers for transactions related to debt instruments and options.

FOR FURTHER INFORMATION CONTACT: Concerning the proposed regulations, Pamela Lew of the Office of Associate Chief Counsel (Financial Institutions and Products) at (202) 622-3950 (not a toll-free number).

SUPPLEMENTARY INFORMATION:

Background

The correction notice that is the subject of this document is under sections 6045, 6045A and 6045B of the Internal Revenue Code.

Need for Correction

As published, the notice of proposed rulemaking and notice of public hearing (REG-102988-11) contains an error that may prove to be misleading and is in need of clarification.

Correction of Publication

Accordingly, the publication of a notice of proposed rulemaking and notice of public hearing (REG-102988-11)), which was the subject of FR Doc. 2011-30383, is corrected as follows:

§ 1.6045-1 [Corrected]

On page 72658, column 1, § 1.6045-1(d)(2)(ii), lines 6 and 7, the language “or securities described in paragraphs (a)(14)(ii) and (a)(14)(iii) of this section” is corrected to read “or securities described in paragraph (a)(14)(ii) or (a)(14)(iii) of this section”.

LaNita Van Dyke,
Chief, Publications and Regulations Branch, Legal Processing Division, Associate Chief Counsel (Procedure and Administration).

[FR Doc. 2011-32316 Filed 12-15-11; 8:45 am]

BILLING CODE 4830-01-P